DEPARTMENT OF THE INTERIOR

Office of Surface Mining Reclamation and Enforcement

Excess Spoil Minimization—Stream Buffer Zones Final Environmental Impact Statement, OSM-EIS-34

AGENCY: Office of Surface Mining Reclamation and Enforcement, Interior.

ACTION: Notice of availability of a final environmental impact statement.

SUMMARY: We, the Office of Surface Mining Reclamation and Enforcement (OSM), are announcing the availability of a final environmental impact statement (FEIS). The FEIS analyzes the potential impacts of a rule concerning excess spoil, coal mine waste, and stream buffer zones.

ADDRESSES: The FEIS is available on the internet at http://www.regulations.gov, Document ID OSM-2007-0008-0553 and on the OSM Web site at http://www.osmre.gov. Additional locations where a hard copy of the FEIS may be reviewed are listed below under SUPPLEMENTARY INFORMATION. You may obtain a single copy by contacting the person listed under FOR FURTHER INFORMATION CONTACT.

FOR FURTHER INFORMATION CONTACT: David Hartos, Office of Surface Mining Reclamation and Enforcement, 3 Parkway Center, Pittsburgh, PA 15220; Telephone: 412-937-2909.

SUPPLEMENTARY INFORMATION: OSM is announcing the availability of a final environmental impact statement (FEIS). The FEIS analyzes the potential impacts of revising the Federal regulations implementing the Surface Mining Control and Reclamation Act that pertain to stream buffer zones, excess spoil generation and disposal, and coal mine waste disposal. Seventeen alternatives, including not revising the Federal regulations, were considered, with four alternatives analyzed in detail.

Finding a Copy of the FEIS

The FEIS is being mailed to known interested persons and can be viewed and downloaded from the internet. See ADDRESSES above. The FEIS may also be inspected at the OSM headquarters in Washington, DC and at the regional offices in Pittsburgh, Alton, and Denver. The addresses follow:

• OSM Headquarters, Administrative Record, Room 101, 1951 Constitution Avenue, NW., Washington, DC 20240; Phone: (202) 208-2823.

• OSM Appalachian Region, 3 Parkway Center, Pittsburgh, PA 15220; Phone: (412) 937-2909.

• OSM Mid-Continent Region, Alton Federal Bldg., 501 Belle Street, Room 216, Alton, IL 62002; Phone: (618) 463-6460.

• OSM Western Region, 1999 Broadway, Suite 3320, Denver, CO 80201; Phone: (303) 844-1401.

Dated: October 15, 2008.
Sterling Rideout,
Assistant Director, Program Support.

[FR Doc. E8-25121 Filed 10-23-08; 8:45 am]

BILLING CODE 4310-05-P